ENVIRONMENTAL PROTECTION AGENCY

[EPA-HQ-OPPT-2003-0004; FRL-10008-43]

Access to Confidential Business Information by Access Interpreting, Inc.

AGENCY: Environmental Protection Agency (EPA)

ACTION: Notice.

SUMMARY: EPA has authorized its contractor, Access Interpreting, Inc. of Washington, DC, to access information which has been submitted to EPA under all sections of the Toxic Substances Control Act (TSCA). Some of the information may be claimed or determined to be Confidential Business Information (CBI).

DATES: Access to the confidential data will occur no sooner than June 3, 2020.

FOR FURTHER INFORMATION CONTACT: For technical information contact: Scott Sherlock, Environmental Assistance Division (7408M), Office of Pollution Prevention and Toxics, Environmental Protection Agency, 1200 Pennsylvania Ave. NW, Washington, DC 20460-0001; telephone number: (202) 564-8257; email address: sherlock.scott@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the Agency taking?

Under GSA/FEDSIM solicitation number GS-10F-0372X, task order number 68HE0H18A0005/P00003, contractor Access Interpreting, Inc. of 1100 H Street NW, Suite 440, Washington, DC, is assisting the Office of Pollution Prevention and Toxics (OPPT) by attending meetings discussing TSCA CBI and interpret for staff requiring American Sign Language (ASL) interpretation. The contractors are American Sign Language interpreters.

In accordance with 40 CFR 2.306(j), EPA has determined that under GSA/FEDSIM solicitation number GS-10F-0372X, task order number 68HE0H18A0005/P00003, Access Interpreting, Inc. required access to CBI submitted to EPA under all sections of TSCA to perform successfully the duties specified under the contract. Access Interpreting, Inc. personnel were given access to information submitted to EPA under all sections of TSCA. Some of the information may be claimed or determined to be CBI.

EPA is issuing this notice to inform all submitters of information under all sections of TSCA that EPA has provided Access Interpreting, Inc. access to these CBI materials on a need-to-know basis only. All access to TSCA CBI under this contract is taking place at EPA Headquarters in accordance with EPA's TSCA CBI Protection Manual.

Access to TSCA data, including CBI, will continue until September 30, 2023. If the contract is extended, this access will also continue for the duration of the extended contract without further notice.

Access Interpreting, Inc. personnel have signed nondisclosure agreements and were briefed on appropriate security procedures before they were permitted access to TSCA CBI.

Authority: 15 U.S.C. 2601 et seq.

Dated: May 19, 2020.
Pamela Myrick,
Director, Information Management Division, Office of Pollution Prevention and Toxics.

[FR Doc. 2020-11314 Filed 5-26-20; 8:45 am]

BILLING CODE 6560-50-P